DEPARTMENT OF ENERGY

Federal Energy Regulatory Commission

Combined Notice of Filings #2

Take notice that the Commission received the following electric rate filings:

Docket Numbers: ER20-681-013.

Applicants: Tri-State Generation and Transmission Association, Inc.

Description: Notice of Change in Status of Tri-State Generation and Transmission Association, Inc.

Filed Date: 1/31/25.

Accession Number: 20250131-5579.

Comment Date: 5 p.m. ET 2/21/25.

Docket Numbers: ER20-1629-008; ER11-2036-017; ER18-2327-010; ER18-2492-012; ER19-902-005; ER19-1793-004; ER19-1795-004; ER19-1796-004; ER19-1797-004; ER19-1798-004; ER19-1799-004; ER19-1597-008; ER20-902-007; ER20-1593-008; ER20-1594-007; ER20-1596-008; ER20-1597-008; ER20-1599-008; ER20-1620-008; ER21-2767-005; ER22-414-008; ER22-1518-005; ER23-495-009; ER23-1503-003; ER23-2346-005; ER23-2439-004; ER23-2448-005; ER23-2450-004; ER23-2451-004; ER23-2511-004; ER24-1679-001; ER24-2103-003; ER24-2327-003.

Applicants: Calhoun County Solar Project, LLC, Keydet Solar Center, LLC, Eden Solar LLC, Hardy Hills Solar Energy LLC, Great Cove Solar II LLC, Great Cove Solar LLC, Tunica Windpower LLC, Cavalier Solar A2, LLC, Oak Ridge Solar, LLC, Cavalier Solar A, LLC, AES CE Solutions, LLC, Laurel Mountain BESS, LLC, AES Marketing and Trading, LLC, Skipjack Solar Center, LLC, AES Solutions Management, LLC, Richmond Spider Solar, LLC, Pleinmont Solar 2, LLC, Pleinmont Solar 1, LLC, Highlander IA, LLC, Highlander Solar Energy Station 1, LLC, sPower Energy Marketing, AES Integrated Energy, LLC, Valcour Wethersfield Windpark, LLC, Valcour Ellenburg Windpark, LLC, Valcour Clinton Windpark, LLC, Valcour Chateaugay Windpark, LLC, Valcour Bliss Windpark, LLC, Valcour Altona Windpark, LLC, Valcour Wind Energy, LLC, FTS Master Tenant 2, LLC, Riverhead Solar Farm, LLC, AES Laurel Mountain, LLC, AES ES Alamitos, LLC.

Description: Notice of Change in Status of AES ES Alamitos, LLC, et al.

Filed Date: 2/3/25.

Accession Number: 20250203-5306.

Comment Date: 5 p.m. ET 2/24/25.

Docket Numbers: ER23-2759-000.

Applicants: Mammoth North LLC.

Description: Amendment to October 22, 2024, Notice of Change in Status of Mammoth North LLC.

Filed Date: 1/31/25.

Accession Number: 20250131-5556.

Comment Date: 5 p.m. ET 2/21/25.

Docket Numbers: ER24-548-002; ER10-3057-007; ER14-1348-009; ER14-1349-009.

Applicants: Union Carbide Corporation, The Dow Chemical Company, Dow Pipeline Company, Dow Hydrocarbons and Resources LLC.

Description: Notice of Non-Material Change in Status of Dow Hydrocarbons and Resources LLC, et al.

Filed Date: 2/6/25.

Accession Number: 20250206-5074.

Comment Date: 5 p.m. ET 2/27/25.

Docket Numbers: ER24-1035-003; ER10-3116-014; ER10-3120-016; ER10-3128-016; ER10-3145-017; ER11-2701-018; ER15-760-019; ER15-762-022; ER15-1579-020; ER15-1582-021; ER15-1914-022; ER15-2680-018; ER16-468-016; ER16-474-017; ER16-890-017; ER16-1255-019; ER16-1738-016; ER16-1901-016; ER16-1955-016; ER16-1956-016; ER16-1973-016; ER16-2201-015; ER16-2224-015; ER16-2578-016; ER17-306-015; ER17-544-015; ER17-1864-014; ER17-1871-014; ER17-1909-014; ER18-1667-011; ER18-2492-011; ER19-846-011; ER19-847-011; ER19-1473-006; ER19-1474-005; ER19-1597-007; ER20-902-006; ER20-1620-007; ER20-1629-007; ER20-2065-006; ER20-2066-006; ER20-2519-005; ER21-1488-005; ER21-1488-006; ER21-2156-006; ER21-2766-005; ER22-414-007; ER22-799-006; ER23-48-004; ER23-495-008; ER23-937-003; ER23-1165-002; ER23-1319-003; ER23-1589-003; ER23-1668-004; ER23-1669-004; ER23-2440-002; ER23-2441-003; ER24-55-003; ER24-1697-001; ER24-1698-002.

Applicants: AES ES Alamitos 2, LLC, AES Westwing II ES, LLC, Silver Peak Energy, LLC, Chevelon Butte RE II LLC, McFarland Solar B, LLC, Raceway Solar 1, LLC, Estrella Solar, LLC, AES ES Westwing, LLC, Baldy Mesa Solar, LLC, McFarland Solar A, LLC, Chevelon Butte RE LLC, AES CE Solutions, LLC, West Line Solar, LLC, Lancaster Area Battery Storage, LLC, AES Marketing and Trading, LLC, Central Line Solar, LLC, Antelope Expansion 1B, LLC, Luna Storage, LLC, East Line Solar, LLC, Antelope Expansion 3B, LLC, Antelope Expansion 3A, LLC, AES ES Alamitos, LLC, AES Solutions Management, LLC, sPower Energy Marketing, AES Integrated Energy, LLC, AES Huntington Beach Energy, LLC, AES Alamitos Energy, LLC, San Pablo Raceway, LLC, Antelope DSR 3, LLC, FTS Master Tenant 2, LLC, Antelope Expansion 2, LLC, Bayshore Solar C, LLC, Bayshore Solar B, LLC, Bayshore Solar A, LLC, Beacon Solar 1, LLC, Beacon Solar 3, LLC, North Lancaster Ranch LLC, Solverde 1, LLC, Antelope DSR 1, LLC, Western Antelope Blue Sky Ranch B LLC, Western Antelope Dry Ranch LLC, Antelope DSR 2, LLC, Elevation Solar C LLC, Beacon Solar 4, LLC, Antelope Big Sky Ranch LLC, Summer Solar LLC, Central Antelope Dry Ranch C LLC, FTS Master Tenant 1, LLC, Sandstone Solar LLC, 87RL 8me LLC, 65HK 8me LLC, 67RK 8me LLC, Sierra Solar Greenworks LLC, Western Antelope Blue Sky Ranch A LLC, Mountain View Power Partners IV, LLC, AES Alamitos, LLC, AES Redondo Beach, L.L.C., AES Huntington Beach, L.L.C., AES Energy Storage, LLC, 20SD 8me LLC.

Description: Notice of Change in Status of 20SD 8me LLC, et al.

Filed Date: 2/3/25.

Accession Number: 20250203-5305.

Comment Date: 5 p.m. ET 2/24/25.

Docket Numbers: ER25-791-001.

Applicants: Northern States Power Company, a Minnesota corporation.

Description: Tariff Amendment: 2025-02-06 SA 4419 NSP-Minnkota Power Substitute 1st Rev I&IA to be effective 11/26/2024.

Filed Date: 2/6/25.

Accession Number: 20250206-5073.

Comment Date: 5 p.m. ET 2/27/25.

Docket Numbers: ER25-1224-000.

Applicants: Public Service Company of Colorado.

Description: § 205(d) Rate Filing: 2025-02-06 Attchment GG to be effective 12/31/9998.

Filed Date: 2/6/25.

Accession Number: 20250206-5022.

Comment Date: 5 p.m. ET 2/27/25.

Docket Numbers: ER25-1225-000.

Applicants: PJM Interconnection, L.L.C.

Description: § 205(d) Rate Filing: Original GIA & Original CSA, SA Nos. 7509 & 7510; Project Identifier No. AF1-268 to be effective 1/7/2025.

Filed Date: 2/6/25.

Accession Number: 20250206-5032.

Comment Date: 5 p.m. ET 2/27/25.

Docket Numbers: ER25-1226-000.

Applicants: PJM Interconnection, L.L.C.

Description: § 205(d) Rate Filing: Original NSA, Service Agreement No. 7544; Project Identifier No. AD2-038 to be effective 4/8/2025.

Filed Date: 2/6/25.

Accession Number: 20250206-5038.

Comment Date: 5 p.m. ET 2/27/25.

Docket Numbers: ER25-1227-000.

Applicants: Niagara Mohawk Power Corporation, New York Independent System Operator, Inc.

Description: § 205(d) Rate Filing: New York Independent System Operator, Inc. submits tariff filing per 35.13(a)(2)(iii: NYISO-National Grid Joint 205: 2nd Amended SGIA Pattersonville Solar SA2544 to be effective 1/27/2025.

Filed Date: 2/6/25.

Accession Number: 20250206-5047.

Comment Date: 5 p.m. ET 2/27/25.

Docket Numbers: ER25-1228-000.

Applicants: Centerstream STL, LLC.

Description: § 205(d) Rate Filing: Notice of Succession to be effective 2/7/2025.

Filed Date: 2/6/25.

Accession Number: 20250206-5051.

Comment Date: 5 p.m. ET 2/27/25.

Docket Numbers: ER25-1229-000.

Applicants: Duke Energy Carolinas, LLC.

Description: § 205(d) Rate Filing: DEC-SEPA Revised NITSA SA No. 127 to be effective 4/1/2025.

Filed Date: 2/6/25.

Accession Number: 20250206-5068.

Comment Date: 5 p.m. ET 2/27/25.

Docket Numbers: ER25-1230-000.

Applicants: PJM Interconnection, L.L.C.

Description: § 205(d) Rate Filing: Amendment to ISA, Service Agreement No. 7097; Queue No. AE1-113/AE2-255 to be effective 4/8/2025.

Filed Date: 2/6/25.

Accession Number: 20250206-5071.

Comment Date: 5 p.m. ET 2/27/25.

Docket Numbers: ER25-1231-000.

Applicants: Midcontinent Independent System Operator, Inc., Ameren Illinois Company.

Description: § 205(d) Rate Filing: Ameren Illinois Company submits tariff filing per 35.13(a)(2)(iii: 2025-02-06_SA 3028 Ameren IL-Prairie Power Project #43 Shelby Tower Hill to be effective 4/8/2025.

Filed Date: 2/6/25.

Accession Number: 20250206-5075.

Comment Date: 5 p.m. ET 2/27/25.

Docket Numbers: ER25-1232-000.

Applicants: Kola Energy Storage, LLC.

Description: § 205(d) Rate Filing: Application for Market-Based Rate Authorization to be effective 4/8/2025.

Filed Date: 2/6/25.

Accession Number: 20250206-5090.

Comment Date: 5 p.m. ET 2/27/25.

Docket Numbers: ER25-1233-000.

Applicants: Algonquin Energy Services Inc.

Description: Compliance filing: Notice of Succession and Request for Waiver to be effective 1/9/2025.

Filed Date: 2/6/25.

Accession Number: 20250206-5096.

Comment Date: 5 p.m. ET 2/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 6, 2025.
Carlos D. Clay,
Deputy Secretary.

[FR Doc. 2025-02529 Filed 2-11-25; 8:45 am]

BILLING CODE 6717-01-P